DEPARTMENT OF ENERGY

Federal Energy Regulatory Commission

[Docket No. IC20-3-000]

Commission Information Collection Activities; Request for Emergency Extension for FERC-574

AGENCY: Federal Energy Regulatory Commission, DOE.

ACTION: Notice of request for emergency extension.

SUMMARY: In compliance with the requirements of the Paperwork Reduction Act of 1995 (PRA), the Federal Energy Regulatory Commission (Commission or FERC) is soliciting public comment on FERC-574 (Gas Pipeline Certificates: Hinshaw Exemption). FERC submitted a request to the Office of Management and Budget (OMB) for short term emergency extension for FERC-574 to ensure it remains active while FERC completes the pending PRA renewal process. No changes are being made to the reporting and recordkeeping requirements.

FOR FURTHER INFORMATION CONTACT: Ellen Brown may be reached by email at DataClearance@FERC.gov, telephone at (202) 502-8663, and fax at (202) 273-0873.

SUPPLEMENTARY INFORMATION: The PRA renewal process for FERC-574 is ongoing. To ensure that OMB approval of the current information collection remains active during the PRA renewal process, FERC has submitted a request to the OMB for short term emergency extension.

Title: FERC-574 (Gas Pipeline Certificates: Hinshaw Exemption).

OMB Control No.: 1902-0116.

Docket No. for Ongoing PRA Renewal: IC20-3-000.

FERC submitted written ¹ and electronic formal requests to OMB on December 16, 2019, for an emergency three-month extension (to March 31, 2020). The request is pending at OMB.

¹ The FERC letter is dated December 12, 2019.

Dated: December 18, 2019.
Nathaniel J. Davis, Sr.,
Deputy Secretary.

[FR Doc. 2019-27876 Filed 12-26-19; 8:45 am]

BILLING CODE 6717-01-P